DEPARTMENT OF COMMERCE

Foreign-Trade Zones Board

[B-20-2020]

Foreign-Trade Zone (FTZ) 32—Miami, Florida, Notification of Proposed Production Activity, BLU Products, Inc. (Cellular Phones, Accessories, and Components), Doral, Florida

BLU Products, Inc. (BLU) submitted a notification of proposed production activity to the FTZ Board for its facility in Doral, Florida. The notification conforming to the requirements of the regulations of the FTZ Board (15 CFR 400.22) was received on April 1, 2020.

The BLU facility is located within FTZ 32. The facility will used for the assembly, disassembly, and kitting of cellular (cell) phones, and their accessories and components. Pursuant to 15 CFR 400.14(b), FTZ activity would be limited to the specific foreign-status materials and components and specific finished products described in the submitted notification (as described below) and subsequently authorized by the FTZ Board.

Production under FTZ procedures could exempt BLU from customs duty payments on the foreign-status components used in export production. On its domestic sales, for the foreign-status materials/components noted below, BLU would be able to choose the duty rates during customs entry procedures that apply to cell phones, and their accessories and components (duty rate ranges from duty-free to 5.0%). BLU would be able to avoid duty on foreign-status components which become scrap/waste. Customs duties also could possibly be deferred or reduced on foreign-status production equipment.

The components and materials sourced from abroad include: Cell phones; paper labels; plastic components (SIM card; blister package; audio adapter; screen insert; back housing battery cover; flash cover; front cover housing; SIM card tray; flex power cable for power and volume keys; internal speaker housing; phone vibrator; volume key button; internal cell phone earpiece net; battery cooling film; housing net; keypad dome; phone power key); hands-free headphones; polyurethane and copper data cables; lithium-ion batteries; tempered glass; paperboard gift/retail boxes; master cartons; cell phone chargers; iron components (Universal Serial Bus (USB) connector; flash shield; front camera motor support clamp, front camera thumb screw; phone vibrator); back cover foam protectors; acrylic plastic components (camera housing; rear camera ornament or decoration; front camera housing; rear camera flash cover); ethylene vinyl acetate adhesives; cell phone camera lenses; zinc alloy components (fingerprint reader; front camera motor lift mechanism; front camera guide pillar; internal cell phone microphone; SIM card tray cap; phone housing mesh); front camera components (acrylic and zinc alloy front camera; poly resin mesh; insulation tape; lens; rubber stop; magnet); PVC resin components (front camera guide pillar shaft sleeve; sub-printed circuit board (also with radio frequency, radio frequency antenna, or with microphone and USB connector); flex power cable (also for volume key, and power key); sub-power cable; plastic for housing; GPS system antenna; radio frequency antenna); copper components (front camera spring; coaxial line; screws); glass film liquid crystal display (LCD) units; LCD units with polyvinyl touch panel and resin front housing with power volume flex power cable; rear camera lenses; aluminum components (SIM card tray; battery cover); audio jack connectors; internal cell phone receivers (earpieces); mobile cellular communication receivers; internal cell phone speakers; glass tactile phone panels; acrylic face proximity sensors; and, aluminum alloy speaker mesh (duty rate ranges from duty-free to 3.4%). The request indicates that the materials/components are subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is May 18, 2020.

A copy of the notification will be available for public inspection in the “Reading Room” section of the Board's website, which is accessible via www.trade.gov/ftz.

For further information, contact Juanita Chen at juanita.chen@trade.gov or 202-482-1378.

Dated: April 2, 2020.
Andrew McGilvray,
Executive Secretary.

[FR Doc. 2020-07395 Filed 4-7-20; 8:45 am]

BILLING CODE 3510-DS-P